DEPARTMENT OF AGRICULTURE

Office of the Secretary

Determination of Total Amounts and Quota Period for Tariff-Rate Quotas for Raw Cane Sugar and Certain Imported Sugars, Syrups, and Molasses

AGENCY: Office of the Secretary, USDA.

ACTION: Notice.

SUMMARY: This notice establishes the aggregate quantity of 1,360,983 metric tons raw value of sugar that may be entered under the provisions of additional U.S. Note 5 (a) of the Harmonized Tariff Schedule of the United States (HTS) during fiscal year (FY) 2001. The following quantities are established for entry: 1,117,195 metric tons raw value of raw sugar under subheading 1701.11.10 of the HTS; 38,000 metric tons raw value of certain sugars, syrups, and molasses under subheadings 1701.12.10, 1701.91.10, 1701.99.10, 1702.90.10, and 2106.90.44; 105,788 metric tons raw value of sugar from Mexico in accordance with the terms of the North American Free Trade Agreement (NAFTA); and 100,000 metric tons raw value that will be held in reserve.

EFFECTIVE DATE: June 19, 2001.

ADDRESSES: Inquiries may be mailed or delivered to the Import Policy and Programs Division Director, Foreign Agricultural Service, AgStop 1021, South Building, U.S. Department of Agriculture, Washington, D.C. 20250-1021.

FOR FURTHER INFORMATION CONTACT: Richard Blabey (Division Director, Import Policy and Programs Division), 202-720-2916.

SUPPLEMENTARY INFORMATION: Paragraph (a)(i) of additional U.S. note 5 to chapter 17 of the HTS provides in pertinent part as follows:

The aggregate quantity of raw cane sugar entered, or withdrawn from warehouse for consumption, under subheading 1701.11.10, during any fiscal year, shall not exceed in the aggregate an amount (expressed in terms of raw value), not less than 1,117,195 metric tons, as shall be established by the Secretary of Agriculture * * *, and the aggregate quantity of sugars, syrups and molasses entered or withdrawn from warehouse for consumption, under subheading 1701.12.10, 1701.91.10, 1701.99.10, 1702.90.10 and 2106.90.44, during any fiscal year, shall not exceed in the aggregate an amount (expressed in terms of raw value), not less than 22,000 metric tons, as shall be established by the Secretary. With either the aggregate quantity for raw cane sugar or the aggregate quantity for sugars, syrups and molasses other than raw cane sugar, the Secretary may reserve a quota quantity for the importation of specialty sugars as defined by the U.S. Trade Representative.

These provisions of paragraph (a)(i) of Additional U.S. note 5 to chapter 17 of the HTS authorize the Secretary of Agriculture to establish the total amounts (expressed in terms of raw value) for imports of raw cane sugar and certain other sugars, syrups, and molasses that may be entered under the subheadings of the HTS subject to the lower tier of duties of the tariff-rate quotas (TRQs) for entry during the fiscal year beginning October 1. Allocations of the quota amounts among supplying countries and areas will be made by the United States Trade Representative.

Notice

I hereby give notice, in accordance with paragraph (a)(i) of additional U.S. note 5 to chapter 17 of the HTS, that an aggregate quantity of up to 1,222,983 metric tons raw value, of raw cane sugar described in subheading 1701.11.10 of the HTS may be entered or withdrawn from warehouse for consumption during the period from October 1, 2000, through September 30, 2001. This TRQ amount may be allocated among supplying countries and areas by the United States Trade Representative

I will issue Certificates of Quota Eligibility (CQEs) to allow Brazil, the Dominican Republic, and the Philippines to ship up to 25 percent of their respective initial country allocations at the low-tier tariff during each quarter of FY 2001. Argentina, Australia, Guatemala, and Peru will be allowed to ship up to 50 percent of their respective initial country allocations in the first 6 months of FY 2001. Unentered allocations, during any quarter or six month period, may be entered in any subsequent period. For all other countries, CQEs corresponding to their respective country allocations may be entered at the low-tier tariff at any time during the fiscal year.

I have further determined that an aggregate quantity of up to 143,788 metric tons raw value of certain sugars, syrups, and molasses described in subheadings 1701.12.10, 1701.91.10, 1701.99.10, 1702.90.10, and 2106.90.44 of the HTS may be entered or withdrawn from warehouse for consumption during the period from October 1, 2000 through September 30, 2001. I have further determined that out of this quantity of 143,788 metric tons, the quantity of 17,656 metric tons raw value is reserved for the importation of specialty sugars. These TRQ amounts may be allocated among supplying countries and areas by the United States Trade Representative.

The NAFTA portion of Mexico's access to the U.S. market is established at 105,788 metric tons raw value. Mexico's NAFTA access for either raw or refined sugar is established in Annex 703.2.

A reserve quantity of 100,000 metric tons raw value is established. The raw or refined sugar TRQs may increased by this quantity, if needed. If additional country allocations result from the reserved TRQ quantity, they may be entered subsequent to their announcement by the United States Trade Representative.

Signed at Washington, DC, on June 11, 2001.
Ann M. Veneman,
Secretary of Agriculture.

[FR Doc. 01-15412 Filed 6-18-01; 8:45 am]

BILLING CODE 3410-10-P